DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 17, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Work Requirements and Screening.

OMB Control Number: 0584-0479.

Summary of Collection: This collection is based on the final rule titled, Supplemental Nutrition Assistance Program: Program Purpose and Work Requirement Provisions of the Fiscal Responsibility Act of 2023 (0584-AF01) published on December 17, 2024, in the Federal Register at 89 FR 102342. Since it has been a while since the agency sought public comments, the agency is opening the Paperwork Reduction Act requirements opened for 30 days. The final rule revised the Supplemental Nutrition Assistance Program (SNAP) regulations at 7 CFR 271 and 273 to implement provisions of the Fiscal Responsibility Act (FRA) of 2023 (Pub. L. 118-5) and incorporated requirements to screen for exemptions from the general work requirements and exceptions from the able-bodied adults without dependents (ABAWD) time limit.

The collection accounts for the burden from the FRA which gradually increases the upper age limit of the age-based exception three times over the next year and created three new exceptions from the time limit for individuals experiencing homelessness, veterans, and individuals aging out of foster care. The FRA also provided that these changes sunset on October 1, 2030. The Department proposed to update regulations to incorporate the final age increase, add the three new exceptions and definitions for each, and codify that the changes to exceptions sunset on October 1, 2030.

Need and Use of the Information: In addition to the provisions of the FRA, the Department also proposed requirements for State agencies to screen for exemptions from the general work requirements and exceptions from the ABAWD time limit. The rule requires State agencies to screen individuals at initial application, recertification application, and when a change occurs during the certification period and prohibits State agencies from applying the time limit and assigning countable months unless they have screened the individual and determined they do not meet an exception from the time limit. Additionally, because individuals are not subject to the ABAWD time limit if they are exempt from the general work requirements, this rule also requires screening for exemptions from the general work requirements.

Description of Respondents: State, Local, or Tribal Government and Individuals or Households.

Number of Respondents: 29,883,991.

Frequency of Responses: Annually.

Total Burden Hours: 4,501,190.61.

Rachelle Ragland-Greene,
Departmental Information Collection Clearance Officer.

[FR Doc. 2025-11080 Filed 6-16-25; 8:45 am]

BILLING CODE 3410-30-P